DEPARTMENT OF ENERGY

Federal Energy Regulatory Commission

Combined Notice of Filings #1

November 29, 2007.

Take notice that the Commission received the following electric rate filings:

Docket Numbers: ER07-1174-002; OA07-74-002.

Applicants: MATL LLP.

Description: MATL, LLP submits revised tariff sheets to its open access transmission tariff, Open Access Transmission Tariff, FERC Electric Tariff, Second Revised Volume 1.

Filed Date: 11/26/2007.

Accession Number: 20071128-0045.

Comment Date: 5 p.m. Eastern Time on Monday, December 17, 2007.

Docket Numbers: ER07-1377-001.

Applicants: Central Vermont Public Service Corp.

Description: Central Vermont Public Service Corporation Compliance Refund Report.

Filed Date: 11/21/2007.

Accession Number: 20071121-5023.

Comment Date: 5 p.m. Eastern Time on Wednesday, December 12, 2007.

Docket Numbers: ER08-235-000.

Applicants: The Connecticut Light and Power Company.

Description: The Connecticut Light and Power Co. submits its Notice of Cancellation of FERC Electric Rate Schedule 535 and related supplements.

Filed Date: 11/20/2007.

Accession Number: 20071121-0045.

Comment Date: 5 p.m. Eastern Time on Tuesday, December 11, 2007.

Docket Numbers: ER08-236-000.

Applicants: Northern Maine Independent System Administrator, Inc.

Description: Northern Maine Independent System Administrator, Inc submits a Coordination Agreement with New Brunswick System Operator.

Filed Date: 11/20/2007.

Accession Number: 20071121-0046.

Comment Date: 5 p.m. Eastern Time on Tuesday, December 11, 2007.

Docket Numbers: ER08-237-000.

Applicants: Forward Energy LLC.

Description: Forward Energy, LLC submits their FERC Electric Tariff 1.

Filed Date: 11/20/2007.

Accession Number: 20071121-0047.

Comment Date: 5 p.m. Eastern Time on Tuesday, December 11, 2007.

Docket Numbers: ER08-238-000.

Applicants: PJM Interconnection, L.L.C.

Description: PJM Interconnection LLC submits the signature page to the PJM Consolidated Transmission Owners Agreement.

Filed Date: 11/20/2007.

Accession Number: 20071121-0048.

Comment Date: 5 p.m. Eastern Time on Tuesday, December 11, 2007.

Docket Numbers: ER08-239-000.

Applicants: Indiana Michigan Power Company.

Description: Indiana Michigan Power Co. submits First Revised Sheet 15 et al. to FERC Rate Schedule 107.

Filed Date: 11/20/2007.

Accession Number: 20071121-0049.

Comment Date: 5 p.m. Eastern Time on Tuesday, December 11, 2007.

Docket Numbers: ER08-240-000.

Applicants: Indiana Michigan Power Company.

Description: Indiana Michigan Power Co. submits First Revised Sheet 15 et al. to FERC Rate Schedule 106.

Filed Date: 11/20/2007.

Accession Number: 20071121-0050.

Comment Date: 5 p.m. Eastern Time on Tuesday, December 11, 2007.

Docket Numbers: ER08-241-000.

Applicants: Consolidated Water Power Company.

Description: Consolidated Water Power Co. submits an executed “Service Agreement for Wholesale Distribution Service” with the City of Wisconsin Rapids, Wisconsin.

Filed Date: 11/20/2007.

Accession Number: 20071121-0041.

Comment Date: 5 p.m. Eastern Time on Tuesday, December 11, 2007.

Docket Numbers: ER08-253-000.

Applicants: LSF Limited.

Description: LSF Limited submits a Notice of Cancellation of Market Base Rate Authority.

Filed Date: 11/26/2007.

Accession Number: 20071128-0044.

Comment Date: 5 p.m. Eastern Time on Monday, December 17, 2007.

Docket Numbers: ER08-254-000.

Applicants: Westar Energy, Inc.

Description: Westar Energy, Inc submits a Notice of Termination of a Non-Firm Point-to-Point Transmission Service Agreement with Avista Energy, Inc.

Filed Date: 11/27/2007.

Accession Number: 20071128-0046.

Comment Date: 5 p.m. Eastern Time on Tuesday, December 18, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-23553 Filed 12-4-07; 8:45 am]

BILLING CODE 6717-01-P